DEPARTMENT OF JUSTICE

Notice of Lodging of Settlement Agreement Under the Comprehensive Environmental Response, Compensation, and Liability Act, the Clean Water Act, and the Clean Air Act

Notice is hereby given that on March 25, 2003, a proposed Settlement Agreement (the “Agreement”) in In re: Farmland Industries, Inc., et al., Case No. 02-50557, was lodged with the United States Bankruptcy Court for the Western District of Missouri.

In this settlement the United States resolves all but one ¹ of the Environmental Protection Agency's pre-petition (presently known and outstanding) claims for cost recovery and civil penalties under CERCLA, the Clean Water Act, and the Clean Air Act against Farmland Industries, Inc. The Settlement Agreement resolves EPA's claims for civil penalties in connection with three oil spills from pipelines owned and operated by Farmland, violations of “mobile source” regulations, 42 U.S.C. 7545(h) and (k), 40 CFR 105(a)(5)(v), 105(a)(6), 80.101(i), and 80.46(b) and (f), at Farmland's Coffeyville, Kansas refinery, and for cost recovery at six CERCLA sites at which Farmland Industries has been identified as a responsible party. The Settlement Agreement provides that the United States will have an allowed general unsecured claim totaling $2,693,882.60, in settlement of the above-described claims.

¹ The one known EPA claim against Debtors not resolved by the subject settlement agreement arises in connection with violations of Clean Air Act regulations at Debtor's Coffeyville, Kansas refinery. EPA has filed a Proof of Claim in the bankruptcy reserving the right to pursue Debtor for this claim.

The Department of Justice will receive for a period of thirty (30) days from the date of this publication comments relating to the Settlement Agreement. Comments should be addressed to the Assistant Attorney General, Environment and Natural Resources Division, PO Box 7611, U.S. Department of Justice, Washington, DC 20044-7611, and should refer to In re: Farmland Industries, Inc., et al., Case No. 02-50557, Bankruptcy Court for Western District of Missouri, D.J. Ref. # 90-5-1-1-06976/2,3.

The Settlement Agreement may be examined at the Office of the United States Attorney, 400 E. 9th Street, Kansas City, MO, 64106, and at U.S. EPA Region 7, 901 N. 5th Street, Kansas City, Kansas, 66101. During the public comment period, the Settlement Agreement may also be examined on the following Department of Justice Web site, http://www.usdoj.gov/enrd/open.html. A copy of the Settlement Agreement may also be obtained by mail from the Consent Decree Library, PO Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $8.50 (25 cents per page reproduction cost) payable to the U.S. Treasury.

Robert E. Maher, Jr.,
Assistant Chief, Environmental Enforcement Section, Environmental and Natural Resources Division.

[FR Doc. 03-9404 Filed 4-16-03; 8:45 am]

BILLING CODE 4410-15-M